DEPARTMENT OF ENERGY

Office of Energy Efficiency and Renewable Energy

Notice of Public Scoping, Request for Comment, and Announcement of Public Scoping Meeting for the U.S. Department of Energy Environmental Assessment for Project Icebreaker (DOE/EA-2045)

AGENCY: Office of Energy Efficiency and Renewable Energy, U.S. Department of Energy.

ACTION: Notice of public scoping, request for comment, and announcement of public scoping meeting.

SUMMARY: The U.S. Department of Energy (DOE) is proposing to authorize the expenditure of federal funding for the design, construction, operation, maintenance, and decommissioning of “Project Icebreaker,” a 20-megawatt offshore wind renewable energy project that would be located in Lake Erie, approximately 8 miles off Cleveland, Ohio. The proposed project would consist of up to six wind turbine generators and the necessary electrical transmission facilities (i.e. underwater and underground cable) to connect to the Cleveland Public Power Lake Road Substation. The Army Corps of Engineers (USACE) anticipates receiving an application pursuant to Section 404 of the Clean Water Act and Section 10 of the Rivers and Harbors Act for the proposed project. The U.S. Coast Guard (USCG) is responsible for reviewing impacts related to navigation and the USCG mission.

Pursuant to the requirements of the National Environmental Policy Act (NEPA), DOE is preparing an Environmental Assessment (EA) to identify and analyze potential impacts to the human environment that may occur if DOE authorizes the expenditure of federal funding in support of Project Icebreaker. The USACE and the USCG are cooperating agencies in preparation of the EA. DOE is requesting public input on the scope of the EA for Project Icebreaker.

The notice of public scoping for the EA and a description of the proposed project is available for review at: www.energy.gov/node/2001046.

DATES:

Meeting: DOE will hold a public meeting on September 28, 2016 from 4:00 p.m. to 7:00 p.m. in Lakewood, Ohio.

Comments: Comments regarding scoping must be received on or before October 21, 2016.

ADDRESSES:

Meeting: The public meeting will be held at the Lakewood Park Woman's Club Pavilion, 14532 Lake Ave, Lakewood, Ohio 44107.

Written Comments: Written comments should be sent to Roak Parker at U.S. Department of Energy, 15013 Denver West Parkway, Golden, CO 80401, or by email to ProjectIcebreaker@ee.doe.gov.

FOR FURTHER INFORMATION CONTACT: Requests for additional information should be directed to Roak Parker at ProjectIcebreaker@ee.doe.gov. The notice is available for viewing at: www.energy.gov/node/2001046.

Statutory Authority: National Environmental Policy Act (NEPA) (42 U.S.C. 4321 et seq.).

Issued in Golden, CO, on September 14, 2016.
Lori A. Gray,
NEPA Division Director, Office of Energy Efficiency and Renewable Energy.

[FR Doc. 2016-22973 Filed 9-22-16; 8:45 am]

BILLING CODE 6450-01-P